DEPARTMENT OF LABOR

Employment and Training Administration

[TA-W-81,204A]

Alternative Management Resources, Inc., Doepker Group, Inc., D.B.A. Time Staffing, Inc., Personnel Management Group, Inc., Including Workers Whose Unemployment Insurance (UI) Wages Are Reported Through Employer Solutions Staffing Group, LLC, Select Staffing, and Strom Engineering Corporation, Working On-Site At Cooper Tire & Rubber Company, Findlay, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on January 27, 2012, applicable to workers and former workers of Alternative Management Resources, Inc., Doepker Group, Inc., D.B.A. Time Staffing, Inc., Personnel Management Group, Inc., Select Staffing, and Strom Engineering Corporation working on-site at Cooper Tire & Rubber Company, Findlay, Ohio (TA-W-81,204A). The Department's notice of determination was published in the Federal Register on February 8, 2012 (77 FR 6589).

At the request of a state workforce official, the Department reviewed the certification for workers of the subject firm.

New information shows that some workers separated from employment at Personnel Management Group, working on-site at Cooper Tire & Rubber, Findlay, Ohio, had their wages reported through a separate unemployment insurance (UI) tax account under the name Employer Solutions Staffing Group, LLC.

The intent of the Department's certification is to include all workers of the subject firm who were adversely affected by an increase in imports of like or directly competitive articles with those produced at the subject firm. Accordingly, the Department is amending this certification to properly reflect this matter.

The amended notice applicable to TA-W-81,204A is hereby issued as follows:

”All workers of Alternative Management Resources, Inc., Doepker Group, Inc., D.B.A. Time Staffing, Inc., Personnel Management Group, Inc., including workers whose unemployment insurance (UI) wages are reported through Employer Solutions Staffing Group, LLC, Select Staffing, and Strom Engineering Corporation working on-site at Cooper Tire & Rubber Company, Findlay, Ohio, who became totally or partially separated from employment on or after February 13, 2010, through January 27, 2014, and all workers in the group threatened with total or partial separation from employment on January 27, 2012 through January 27, 2014, are eligible to apply for adjustment assistance under Chapter 2 of Title II of the Trade Act of 1974, as amended.”

Signed in Washington, DC this 10th day of May, 2012.
Del Min Amy Chen,
Certifying Officer, Office of Trade Adjustment Assistance.

[FR Doc. 2012-25524 Filed 10-16-12; 8:45 am]

BILLING CODE 4510-FN-P